DEPARTMENT OF COMMERCE

International Trade Administration

[A-489-849]

Certain Paper Shopping Bags From the Republic of Türkiye: Final Affirmative Determination of Sales at Less Than Fair Value; Correction

AGENCY: Enforcement and Compliance, International Trade Administration, Department of Commerce.

ACTION: Notice; correction.

SUMMARY: On March 18, 2024, the U.S. Department of Commerce (Commerce) published in the Federal Register its final determination in the less-than-fair value (LTFV) investigation of certain paper shopping bags (paper bags) from the Republic of Türkiye (Türkiye). In that notice, Commerce incorrectly included the company name “Umur Basim” in the rate table.

FOR FURTHER INFORMATION CONTACT: Jeff Pedersen, AD/CVD Operations, Office IV, Enforcement and Compliance, International Trade Administration, U.S. Department of Commerce, 1401 Constitution Avenue NW, Washington, DC 20230; telephone: (202) 482-2769.

SUPPLEMENTARY INFORMATION:

Background

On March 18, 2024, Commerce published in the Federal Register its final determination in the LTFV investigation of paper bags from Türkiye.¹ In that notice, Commerce incorrectly listed Umur Basim in the rate table with other companies to which Commerce applied total adverse facts available (AFA) because of their failure to timely respond to Commerce's quantity and value (Q&V) questionnaire. However, Umur Basim timely responded to Commerce's Q&V questionnaire. Therefore, Commerce should not have listed Umur Basim in the rate table as one of the companies with an AFA rate of 47.56 percent. Rather, Umur Basim is part of the group of all other producers and exporters that were not individually examined, and that are required to post a cash deposit for estimated antidumping duties at a rate of 26.32 percent.

¹ See Certain Paper Shopping Bags from the Republic of Turkey: Final Affirmative Determination of Sales at Less Than Fair Value, 89 FR 19295 (March 18, 2024) (Final Determination).

Commerce will amend its cash deposit instructions to U.S. Customs and Border Protection consistent with the above correction. Specifically, Commerce will amend the cash deposit rate for Umur Basim to the all-others rate of 26.32 percent effective as of March 18, 2024, the date of publication of the Final Determination in the Federal Register.²

² See Final Determination, 89 FR at 19295.

Correction

In the Federal Register of March 18, 2024, in FR Doc 2024-05675, on page 19296, in the first column remove the name Umur Basim from the rate table.

Notification to Interested Parties

This notice is issued and published in accordance with sections 735(d) and 777(i)(l) of the Tariff Act of 1930, as amended, and 19 CFR 351.210(c) and 19 CFR 351.224(e).

Ryan Majerus,
Deputy Assistant Secretary for Policy and Negotiations, performing the non-exclusive functions and duties of the Assistant Secretary for Enforcement and Compliance.

[FR Doc. 2024-09620 Filed 5-2-24; 8:45 am]

BILLING CODE 3510-DS-P